Title 3—

The President

Proclamation 7424 of April 9, 2001

National Crime Victims' Rights Week, 2001

By the President of the United States of America

A Proclamation

Every day, Americans are making progress both in the fight against crime and in the effort to ensure fair and compassionate treatment of victims and their families. Dedicated volunteers, health care professionals, counselors, and law enforcement personnel in communities large and small are raising the public's awareness that victims have important rights.

Decreasing crime rates are encouraging, but we are far from winning the war against crime. According to the most recent National Crime Victimization Survey, nearly 29 million people were victimized by crime in 1999, including more than 7 million victims of violent crime. Americans cannot afford to be complacent. All of us must continue efforts to stop crime and to improve services for those harmed by crime.

The voices of our Nation's victims continue to have a powerful effect in changing laws, policies, and attitudes to promote victims' rights and services. They encourage every person in America to take a stand and to lend their support. My Administration is committed to improving public safety and to providing justice for all who have been victimized. We will fight for public policies that prevent crimes. We will steadfastly support those responsible for enforcing the laws and protecting the innocent. And we will attempt to see that offenders, not victims, pay the high cost of crime.

Our Nation's commitment to crime victim assistance grows stronger every year, with thousands of programs in place to provide help and hope. My Administration is committed to expanding opportunities for faith-based and charitable organizations dedicated to serving persons in need. Crime victims often turn to faith-based organizations for assistance and support during times of crisis, and religious leaders and communities are vital links in our national network of victim services.

This year marks the 20th anniversary of National Crime Victims' Rights Week. The campaign to win rights for victims parallels other grassroots movements in our Nation's history. These crusades most frequently began as small local movements led by groups of passionate individuals who spoke out in protest when they saw inequities. During this week, let us join in the effort to establish fair legal rights and services for crime victims.

NOW, THEREFORE, I, GEORGE W. BUSH, President of the United States of America, by the authority vested in me by the Constitution and laws of the United States, do hereby proclaim April 22 through 28, 2001, as National Crime Victims' Rights Week. I urge all Americans to share the burden of reducing crime in their communities and to follow the example of those who have helped establish rights and improve services for victims.

IN WITNESS WHEREOF, I have hereunto set my hand this ninth day of April, in the year of our Lord two thousand one, and of the Independence of the United States of America the two hundred and twenty-fifth.

B

[FR Doc. 01-9343

Filed 4-11-01; 11:59 am]

Billing code 3195-01-P